DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EM SSAB), Idaho National Engineering and Environmental Laboratory (INEEL). The Federal Advisory Committee Act (Pub. L. 92-463, 86 Stat. 770) requires that public notice of these meetings be announced in the Federal Register.

DATES: Tuesday, May 18, 2004, 8 a.m.-6 p.m.Wednesday, May 19, 2004, 8 a.m.-5 p.m.

Opportunities for public participation will be held Wednesday, May 19, from 11:45 to 12 noon and 3 to 3:15 p.m. Additional time may be made available for public comment during the presentations.

These times are subject to change as the meeting progresses, depending on the extent of comment offered. Please check with the meeting facilitator to confirm these times.

ADDRESSES: Willard Arts Center, 498 “A” Street,Idaho Falls, ID 83402.

FOR FURTHER INFORMATION CONTACT: Ms. Peggy Hinman, INEEL CAB Administrator, North Wind, Inc., P.O. Box 51174, Idaho Falls, ID 83405, Phone (208) 557-7885, or visit the Board's Internet home page at http://www.ida.net/users/cab.

SUPPLEMENTARY INFORMATION: Purpose of the Board: The purpose of the Board is to make recommendations to DOE in the areas of future use, cleanup levels, waste disposition and cleanup priorities at the INEEL.

Tentative Agenda

Optional tour providing an overall orientation to the site and an opportunity to visit the Advanced Mixed Waste Treatment Project before it goes radioactive. Please contact Ms. Peggy Hinman, listed above, if you would like to participate.

Tuesday, May 18

8 a.m.—Welcome and Introductions

8:45 a.m.—Welcome to New Members

9:30 a.m.—Orientation to the INEEL SSAB

11:15 a.m.—Agenda Priority Setting for the Next 12 Months

12:15 p.m.—Public Participation

1:30 p.m.—Election of New INEEL Officers

2 p.m.—Agenda Priority Setting for the Next 12 Months (continued)

3 p.m.—Orientation to the INEEL SSAB (continued)

4:15 p.m.—Member and Committee Reports

4:45 p.m.—Orientation to the INEEL SSAB (continued)

5:45 p.m.—Election of New INEEL SSAB officers (continued)

6 p.m.—Adjourn

Wednesday, May 19

8 a.m.—Agenda Priority Setting for the New Annual Work Plan

8:30 a.m.—Environmental Management (EM) Program Status of INEEL

9:30 a.m.—Potential Impacts of INEEL Mission on the Cleanup Program

10:45 a.m.—Potential Impacts of INEEL Mission on the Cleanup Program (continued)

11:30 a.m.—Member and Committee Reports

11:45 a.m.—Public Participation

1 p.m.—Calcine Treatment

1:45 p.m.—Election of New INEEL SSAB Officers (continued)

2:15 p.m.—Results of the Final Report on the Glovebox Excavator Method Project

2:45 p.m.—Orientation to the INEEL SSAB (continued)

3 p.m.—Public Participation

3:15 p.m.—Agenda Priority Setting for the Next 12 Months (continued)

4 p.m.—Status of Annual Work Plan; Topics for July Meeting; Committee Schedule

4:25 p.m.—Action Items; Meeting Evaluation for May Meeting; Success Stories

5 p.m.—Adjourn

Public Participation: This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Richard Provencher, Assistant Manager for Environmental Management, Idaho Operations Office, U.S. Department of Energy, is empowered to conduct the meeting in a fashion that will facilitate the orderly conduct of business. Every individual wishing to make public comment will be provided equal time to present their comments. This Federal Register notice is being published less than 15 days prior to the meeting date due to programmatic issues that had to be resolved prior to the meeting date.

Minutes: The minutes of this meeting will be available for public review and copying at the Freedom of Information Public Reading Room, 1E-190, Forrestal Building, 1000 Independence Avenue, SW., Washington, DC 20585 between 9 a.m. and 4 p.m., Monday through Friday except Federal holidays. Minutes will also be available by writing to Ms. Peggy Hinman,INEEL CAB Administrator, at the address and phone number listed above.

Issued at Washington, DC, on May 3, 2004.
Rachel Samuel,
Deputy Advisory Committee Management Officer.

[FR Doc. 04-10446 Filed 5-6-04; 8:45 am]

BILLING CODE 6450-01-P